DEPARTMENT OF TRANSPORTATION

Maritime Administration

46 CFR Part 310

[Docket Number: MARAD-2004-19397]

RIN 2133-AB61

Amended Service Obligation Reporting Requirements for State Maritime Academy Graduates

AGENCY: Maritime Administration, Department of Transportation.

ACTION: Interim final rule with request for comments.

SUMMARY: In this interim final rule, the Maritime Administration (MARAD, we, us, or our) will change the service obligation reporting requirements for State maritime academy graduates who receive Student Incentive Payments (SIPs). The new reporting requirements create standard reporting dates that coincide with the U.S. Naval Reserve/Merchant Marine Reserve (USNR/MMR) service reporting dates. This rulemaking also provides for the electronic submission of reports as the primary means of submission to MARAD.

DATES: This interim final rule is effective October 20, 2004. However, MARAD will consider comments received not later than November 19, 2004.

ADDRESSES: You may submit comments (identified by DOT DMS Docket Number MARAD-2004-19397) by any of the following methods:

• Web site: http://dms.dot.gov. Follow the instructions for submitting comments on the DOT electronic docket site.

• Mail: Docket Management Facility; U.S. Department of Transportation, 400 7th St., SW., Nassif Building, Room PL-401, Washington, DC 20590-001.

• Hand Delivery: Room PL-401 on the plaza level of the Nassif Building, 400 7th St., SW., Washington, DC, between 9 a.m. and 5 p.m., Monday through Friday, except Federal holidays.

• Federal eRulemaking Portal: Go to http://www.regulations.gov. Follow the online instructions for submitting comments.

Instructions: All submissions must include the agency name and docket number for this rulemaking. Note that all comments received will be posted without change to http://dms.dot.gov including any personal information provided. Please see the Privacy Act heading under Regulatory Notices.

Docket: For access to the docket to read background documents or comments received, go to http://dms.dot.gov at any time or to Room PL-401 on the plaza level of the Nassif Building, 400 7th St., SW., Washington, DC, between 9 a.m. and 5 p.m., Monday through Friday, except Federal Holidays.

FOR FURTHER INFORMATION CONTACT: Rita Jackson, Academies Program Officer, Office of Policy and Plans, Maritime Administration, Department of Transportation, 400 7th St., SW., Room 7123, Washington, DC 20590, telephone: (202) 366-0284.

SUPPLEMENTARY INFORMATION: The Student Incentive Payment Program provides financial assistance to certain eligible State maritime academy students to help offset educational costs. Students who receive Student Incentive Payments must sign service obligation contracts that obligate the students to certain post-graduate service obligation requirements. The requirements include: (1) Serving for three (3) years after graduation in the foreign or domestic commerce or the national defense of the United States in maritime-related employment; (2) maintaining a valid license as an officer in the merchant marine of the United States for at least six (6) years following the date of graduation, accompanied by the appropriate national and international endorsements and certification as required by the United States Coast Guard for service aboard vessels on domestic and international voyages, and (3) accepting if tendered an appointment as, and serving as a commissioned officer in the United States Naval Reserve, the United States Coast Guard Reserve, or any other reserve unit of an armed force of the United States for six (6) years following graduation. The above requirements are set forth in 46 U.S.C. 1295c(g)(3)(C), (D), and (E). In addition to the above service obligations, graduates are required, under 46 U.S.C. 1295c(g)(3)(F), to submit reports to MARAD indicating compliance with their service obligations.

Under the current regulations at 46 CFR 310.7(b)(6)(i), State maritime academy SIP graduates are required to submit their service obligation reports thirteen (13) months following graduation and each succeeding twelve (12) months for a total of three (3) years. The three (3) year reporting period, however, does not accurately reflect the requirement in 46 U.S.C. 1295c(g)(3)(F) that graduates report compliance with all of their service obligations, because graduates must submit reports indicating their compliance not only with the three (3) year service (i.e., employment) requirement, but also with the six (6) year licensing and reserve components of the service obligation. Thus, under the law, graduates must submit compliance reports for a minimum of six (6) years to account for all of their service obligations. The six (6) year reporting requirement dates back to the Maritime Education and Training Act of 1980 (Pub. L. 96-453) but has not been reflected in MARAD's regulations. However, as a matter of agency practice, MARAD has long required graduates to submit reports for six (6) years to report compliance with their service obligation requirements.

In this interim final rule, MARAD is amending its regulations to reflect the requirement that graduates report for six (6) years (or until all components of the service obligation are fulfilled, whichever is latest). In addition, MARAD is amending the service obligation reporting requirements to require each graduate to file a report between January 1 and March 1 following graduation and during the same January 1 to March 1 time frame for a minimum of six (6) years thereafter.

The new reporting dates coincide with the USNR/MMR's service reporting dates to create a standard reporting period. This standardized reporting period should make reporting less burdensome because graduates will be able to compile and submit information to MARAD and to the USNR during the same time frame each year.

This rulemaking will also provide for the electronic submission of reports as the primary means of submission. Graduates must submit annually the Maritime Administration Service Obligation Compliance Report and Merchant Marine Reserve, U.S. Naval Reserve (USNR), Annual Report (Form MA-930). Graduates may submit their Service Obligation Compliance Reports electronically via the Maritime Service Compliance System at https://mscs.marad.dot.gov.

Regulatory Analyses and Notices

Executive Order 12866 and DOT Regulatory Policies and Procedures

This interim final rule is not considered a significant regulatory action under section 3(f) of Executive Order 12866 and, therefore, was not reviewed by the Office of Management and Budget. This interim final rule is not likely to result in an annual effect on the economy of $100 million or more. This interim final rule is also not significant under the Regulatory Policies and Procedures of the Department of Transportation (44 FR 11034, February 26, 1979). The costs and economic impact associated with this rulemaking are considered to be so minimal that no further analysis is necessary. This interim final rule merely changes the reporting requirements for submission of service obligation report forms to make reporting less burdensome, amends the number of report submissions to conform to requirements set forth in the U.S. Code, and provides the option of electronic submission of such reports to MARAD.

Administrative Procedure Act

The Administrative Procedure Act (5 U.S.C. 553) provides an exception to notice and comment procedures when they are unnecessary or contrary to the public interest. MARAD finds that under 5 U.S.C. 553(b)(3)(B), good cause exists for not providing notice and comment since this interim final rule only changes the service obligation reporting dates of state maritime academy graduates who receive SIP payments to make reporting less burdensome, amends the number of report submissions to conform to requirements set forth in the U.S. Code, and provides the option of electronic submission of such reports to MARAD.

Under 5 U.S.C. 553(d)(3), MARAD finds that, for the same reasons, good cause exists for making this rule effective less than 30 days after publication in the Federal Register. However, MARAD will accept comments submitted on or before the date indicated in the DATES section.

Regulatory Flexibility Act

The Maritime Administrator certifies that this interim final rule will not have a significant economic impact on a substantial number of small entities. This interim final rule only changes the service obligation reporting requirements for state maritime academy graduates who receive SIP payments. Thus, this rule only affects individuals and not businesses or other entities.

Federalism

We have analyzed this interim final rule in accordance with the principles and criteria contained in Executive Order 13132 (Federalism) and have determined that it does not have sufficient federalism implications to warrant the preparation of a federalism summary impact statement. These regulations have no substantial effect on the States, the current Federal-State relationship, or the current distribution of power and responsibilities among local officials. Therefore, consultation with State and local officials is not necessary.

Executive Order 13175

MARAD does not believe that this interim final rule will significantly or uniquely affect the communities of Indian tribal governments when analyzed under the principles and criteria contained in Executive Order 13175 (Consultation and Coordination with Indian Tribal Governments). Therefore, the funding and consultation requirements of this Executive Order do not apply.

Environmental Impact Statement

We have analyzed this interim final rule for purposes of compliance with the National Environmental Policy Act of 1969 (42 U.S.C. 4321 et seq.) and have concluded that under the categorical exclusions in section 4.05 of Maritime Administrative Order (MAO) 600-1, “Procedures for Considering Environmental Impacts,” 50 FR 11606 (March 22, 1985), neither the preparation of an Environmental Assessment, an Environmental Impact Statement, nor a Finding of No Significant Impact for this interim final rule is required. This interim final rule involves administrative and procedural regulations that have no environmental impact.

Unfunded Mandates Reform Act of 1995

This interim final rule does not impose an unfunded mandate under the Unfunded Mandates Reform Act of 1995. It does not result in costs of $100 million or more, in the aggregate, to any of the following: State, local, or Native American tribal governments, or the private sector. This interim final rule is the least burdensome alternative that achieves this objective of U.S. policy.

Paperwork Reduction Act

This interim final rule contains information collection requirements covered by the Office of Management and Budget approval number 2133-0509. The changes have no impact on the reporting burden.

List of Subjects in 46 CFR Part 310

Federal Aid Programs, Reporting and recordkeeping requirements, Schools, and Seamen.

Accordingly, for the reasons discussed in the preamble, 46 CFR part 310 is amended as follows:

PART 310—MERCHANT MARINE TRAINING

1. The authority citation for part 310 continues to read as follows:

Authority: 46 App. U.S.C. 1295; 49 CFR 1.66.

2. Amend § 310.7 by revising paragraph (b)(6) to read as follows:

§ 310.7 Federal student subsistence allowances and student incentive payments.

* * * * *

(b) * * *

(6) Reporting requirement. (i) The schools must promptly submit copies of all resignation forms (containing the name, reason, address and telephone number) of juniors and seniors to the Supervisor, to be used for monitoring and enforcement purposes. Each graduate must submit an annual Service Obligation Compliance Report form (MA-930) to the Maritime Administration (Supervisor) between January 1 and March 1 following his or her graduation. After the initial report is submitted, each graduate must continue to submit annual reports during the same time frame between January 1 and March 1 for six (6) consecutive years thereafter, or until all components of the service obligation are fulfilled, whichever is latest. Each graduate will file a minimum of seven (7) reports in order to give information on all six (6) years of the armed forces reserve and merchant marine officer license service obligations. Graduates are encouraged to submit their Service Obligation Compliance Report forms (MA-930) to MARAD using the web-based Internet system at https://mscs.marad.dot.gov. Reports may also be mailed to: Compliance Specialist, Office of Policy and Plans, Maritime Administration, Department of Transportation, 400 7th St., SW., Room 7123, Washington, DC 20590. In case a deferment has been granted to engage in a maritime-related graduate course of study, annual reports must be submitted during the extension period resulting from such deferments. Examples of the reporting requirements are as follows.

Example 1: Midshipman graduates on June 30, 2004. His or her first reporting date is between January 1, 2005 and March 1, 2005 and each following period between January 1 and March 1 for six (6) consecutive years thereafter (or until all components of the service obligation are fulfilled, whichever is latest) for a minimum of seven (7) reports.

Example 2: Midshipman has a deferred graduation on November 30, 2004. His or her first reporting date is between January 1, 2005 and March 1, 2005 and each following period between January 1 and March 1 for six (6) consecutive years thereafter (or until all components of the service obligation are fulfilled, whichever is latest) for a minimum of seven (7) reports.

Example 3: Midshipman has a deferment following graduation on June 30, 2004, to attend graduate school for two (2) years. His or her first reporting date is between January 1, 2005 and March 1, 2005 and during the same time frame between January 1 and March 1 for two (2) years during graduate school, and then during the same January 1 to March 1 time frame for six (6) consecutive years thereafter (or until all components of the service obligation are fulfilled, whichever is latest) for a total of nine (9) reports.

(ii) The Maritime Administration will provide reporting forms. However, non-receipt of such forms will not exempt a graduate from submitting information as required by this paragraph. The reporting form has been approved by the Office of Management and Budget (2133-0509).

* * * * *

By Order of the Maritime Administrator.
Dated: October 13, 2004.
Joel C. Richard,
Secretary, Maritime Administration.

[FR Doc. 04-23362 Filed 10-19-04; 8:45 am]

BILLING CODE 4910-81-P